INTERNATIONAL TRADE COMMISSION

[Investigation No. 337-TA-663]

In the Matter of Certain Mobile Telephones and Wireless Communication Devices Featuring Digital Cameras, and Components Thereof; Notice of the Commission's Determination To Grant a Joint Motion To Terminate the Investigation With Respect to Respondents Samsung Electronics Co., Ltd., Samsung Electronics America, Inc., and Samsung Telecommunications America, LLC on the Basis of a Settlement Agreement; Termination of the Investigation

AGENCY: U.S. International Trade Commission.

ACTION: Notice.

SUMMARY: Notice is hereby given that the U.S. International Trade Commission has determined to grant a joint motion to terminate the above-captioned investigation with respect to Samsung Electronics Co., Ltd., Samsung Electronics America, Inc., and Samsung Telecommunications America, LLC based upon a settlement agreement.

FOR FURTHER INFORMATION CONTACT: Jia Chen, Esq., Office of the General Counsel, U.S. International Trade Commission, 500 E Street, SW., Washington, DC 20436, telephone (202) 708-4737. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on December 18, 2008, based on a complaint filed by Eastman Kodak Company (“Kodak”) of Rochester, New York. 73 FR 77061 (Dec. 18, 2008). The complainant named the following respondents: Samsung Electronics Co., Ltd., Samsung Electronics America, Inc., Samsung Telecommunications America, LLC (collectively “Samsung”), LG Electronics Inc., LG Electronics USA, Inc., and LG Electronics MobileComm USA, Inc. (collectively “LG”). The complaint, as amended, alleged violations of section 337 of the Tariff Act of 1930, 19 U.S.C. 1337, in the importation, sale for importation, and sale within the United States after importation of certain mobile telephones and wireless communication devices featuring digital cameras and components thereof that infringe certain claims of U.S. Patent Nos. 5,493,335 (“the '335 patent”) and 6,292,218 (“the '218 patent”).

On December 16, 2009, Kodak and LG filed a joint motion before the administrative law judge (“ALJ”) to terminate the investigation with respect to the LG respondents on the basis of a settlement agreement. The ALJ granted this motion on January 14, 2010. The Commission determined not to review the initial determination (“ID”). On December 17, 2009 the ALJ issued his final ID, finding that the Samsung respondents' accused products infringe the asserted claims of both the '335 patent and the '218 patent, that the asserted claims are not invalid, and that the '218 patent is not unenforceable due to inequitable conduct. The Commission has stayed the deadline for filing any petitions for review of the final ID.

On January 8, 2010, Kodak and Samsung (“the parties”) filed their joint motion to terminate the investigation with respect to the Samsung respondents on the basis of a settlement agreement. On January 20, 2010, the IA filed a response supporting the parties' joint motion. Having examined the record of this investigation, the Commission has determined to grant Kodak and Samsung's joint motion and terminate this investigation.

The authority for the Commission's determination is contained in section 337 of the Tariff Act of 1930, as amended (19 U.S.C. 1337), and in section 210.21 of the Commission's Rules of Practice and Procedure (19 CFR 210.21).

By order of the Commission.
Issued: February 2, 2010.
Marilyn R. Abbott,
Secretary to the Commission.

[FR Doc. 2010-2893 Filed 2-9-10; 8:45 am]

BILLING CODE 7020-02-P